DEPARTMENT OF HEALTH AND HUMAN SERVICES

National Institutes of Health

National Institute of Environmental Health Sciences; Amended Notice of Meeting

Notice is hereby given of a change in the meeting of the National Institute of Environmental Health Sciences Special Emphasis Panel, April 2, 2002, 2 p.m. to April 2, 2002, 2:30 p.m., NIEHS-East Campus, Building 4401, Conference Room 3446, Research Triangle Park, NC, 27709 which was published in the Federal Register on March 13, 2002, FR 67: 11352.

The telephone conference meeting will be held on 04/08/2002 at 1 p.m. in Research Triangle Park, NC instead of on 04/02/2002 as previously advertised. The meeting is closed to the public.

Dated: March 29, 2002.
LaVerne Y. Stringfield,
Director, Office of Federal Advisory Committee Policy.

[FR Doc. 02-8321 Filed 4-4-02; 8:45 am]

BILLING CODE 4140-01-M